GENERAL SERVICES ADMINISTRATION

[Notice-MA-2018-11; Docket No. 2018-0002; Sequence 34]

Rescission of FMR Bulletin

AGENCY: Office of Government-wide Policy (OGP); General Services Administration, (GSA).

ACTION: Notice of Rescission of GSA Bulletin Federal Management Reguation (FMR) D-1, Transportation Management.

SUMMARY: GSA has determined the guidance for requesting a delegation of authority for the procurement of transportation (freight and cargo, including household goods) and traffic management services from the Administrator of General Services to be administratively burdensome and ineffective. Therefore, GSA is officially rescinding GSA Bulletin FMR D-1, Transportation Management. Agencies that seek to request a transportation delegation of authority in the future must contact GSA-OGP Office of Asset and Transportation Management for instructions on how to make this request.

DATES: December 5, 2018.

FOR FURTHER INFORMATION CONTACT: For clarification of content or information regarding a request for a delegation of authority, please contact Mr. Ron Siegel, Office of Government-wide Policy, Office of Asset and Transportation Management, at 202-702-0840, or by email at gsa-ogp-transportationpolicy@gsa.gov. Please cite Notice for Rescission of FMR Bulletin D-1 in the subject line.

SUPPLEMENTARY INFORMATION: Executive Order 13777, Enforcing the Regulatory Reform Agenda, Section 3, paragraph (d)(ii), states in part, the Regulatory Reform Task Force shall attempt to identify regulations that are outdated, unnecessary, or ineffective. Upon review, GSA has identified GSA Bulletin FMR D-1, Transportation Management, as unduly prescriptive and ineffective. Furthermore, the bulletin potentially impacts the category management strategy for procurement.

Dated: November 29, 2018.
Jessica Salmoiraghi,
Associate Administrator, Office of Government-wide Policy.

[FR Doc. 2018-26409 Filed 12-4-18; 8:45 am]

BILLING CODE 6820-14-P